DEPARTMENT OF ENERGY

Federal Energy Regulatory Commission

Combined Notice of Filings #2

Take notice that the Commission received the following electric rate filings:

Docket Numbers: ER10-1819-008; ER10-1820-010; ER10-1818-007; ER10-1817-008.

Applicants: Northern States Power Company, a Minnesota corporation, Northern States Power Company, a Wisconsin corporation, Public Service Company of Colorado, Southwestern Public Service Company.

Description: Notice of Non Material Change in Status of Northern States Power Company, a Minnesota corporation, et al.

Filed Date: 11/20/14.

Accession Number: 20141120-5224.

Comments Due: 5 p.m. ET 12/11/14.

Docket Numbers: ER12-480-007.

Applicants: Midcontinent Independent System Operator, Inc.

Description: Compliance filing per 35: 2014-11-21 Entergy Transition Cost Allocation Compliance Filing to be effective 6/1/2013.

Filed Date: 11/21/14.

Accession Number: 20141121-5173.

Comments Due: 5 p.m. ET 12/12/14.

Docket Numbers: ER13-104-005.

Applicants: Florida Power & Light Company.

Description: Compliance filing per 35: FPL Errata to Order No. 1000 Further Regional Compliance Filings to be effective 1/1/2015.

Filed Date: 11/21/14.

Accession Number: 20141121-5159.

Comments Due: 5 p.m. ET 12/12/14.

Docket Numbers: ER13-2318-004; ER14-2499-002; ER14-19-004; ER13-2319-004; ER13-2317-004; ER13-2316-004; ER13-1561-004; ER13-1430-004; ER12-995-003; ER12-637-003; ER11-3321-006; ER11-3320-006; ER10-2793-005; ER10-2755-006; ER10-2751-005; ER10-2744-007; ER10-2743-005; ER10-2742-005; ER10-2740-007; ER10-2739-009; ER10-1936-004; ER10-1892-005; ER10-1886-005; ER10-1872-005; ER10-1859-005; ER10-1854-006; ER10-1631-006.

Applicants: All Dams Generation, LLC, Arlington Valley Solar Energy II, LLC, Calhoun Power Company, LLC, Carville Energy LLC, Centinela Solar Energy, LLC, Cherokee County Cogeneration Partners, LLC, Columbia Energy LLC, Decatur Energy Center, LLC, DeSoto County Generating Company, LLC, Doswell Limited Partnership, Lake Lynn Generation, LLC, Las Vegas Power Company, LLC, LSP University Park, LLC, LS Power Marketing, LLC, MOBILE ENERGY LLC, Oneta Power, LLC, PE Hydro Generation, LLC, Renaissance Power, L.L.C., Riverside Generating Company, L.L.C., Rocky Road Power, LLC, Santa Rosa Energy Center, LLC, Seneca Generation, LLC, Tilton Energy LLC, University Park Energy, LLC, Wallingford Energy LLC, West Deptford Energy, LLC, Bluegrass Generation Company, L.L.C.

Description: Notification of Change in Status of the LS Power Development, LLC subsidiaries.

Filed Date: 11/20/14.

Accession Number: 20141120-5223.

Comments Due: 5 p.m. ET 12/11/14.

Docket Numbers: ER15-459-000.

Applicants: PJM Interconnection, L.L.C.

Description: Tariff Withdrawal per 35.15: Notice of Cancellation of Service Agreement No. 3099; Queue No. W3-154 to be effective 11/21/2014.

Filed Date: 11/21/14.

Accession Number: 20141121-5121.

Comments Due: 5 p.m. ET 12/12/14.

Docket Numbers: ER15-460-000.

Applicants: PJM Interconnection, L.L.C.

Description: § 205(d) rate filing per 35.13(a)(2)(iii): Service Agreement No. 3182; Queue No. W3-140 to be effective 11/4/2014.

Filed Date: 11/21/14.

Accession Number: 20141121-5122.

Comments Due: 5 p.m. ET 12/12/14.

Docket Numbers: ER15-461-000.

Applicants: New Athens Generating Company, LLC.

Description: § 205(d) rate filing per 35.13(a)(2)(iii): Additional Revisions to MBR Tariff to be effective 11/24/2014.

Filed Date: 11/21/14.

Accession Number: 20141121-5123.

Comments Due: 5 p.m. ET 12/12/14.

Docket Numbers: ER15-462-000.

Applicants: Southern California Edison Company.

Description: § 205(d) rate filing per 35.13(a)(2)(iii): Agmt for Interconnection of NV Power Company Eldorado-Magnolia and Eldorado-NSO to be effective 11/22/2014.

Filed Date: 11/21/14.

Accession Number: 20141121-5131.

Comments Due: 5 p.m. ET 12/12/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 21, 2014.
Nathaniel J. Davis, Sr.,
Deputy Secretary.

[FR Doc. 2014-28252 Filed 12-1-14; 8:45 am]

BILLING CODE 6717-01-P